NATIONAL AERONAUTICS AND SPACE ADMINISTRATION

[Notice: (00 082)]

Notice of Agency Report Forms Under OMB Review

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This information is required to monitor contract compliance in support of NASA's mission and in response to contractual requirements.

DATES: All comments should be submitted on or before September 12, 2000.

ADDRESSES: All comments should be addressed to Mr. Richard Kall, Code HK, National Aeronautics and Space Administration, Washington, DC 20546-0001.

FOR FURTHER INFORMATION CONTACT: Ms. Carmela Simonson, NASA Reports Officer, (202) 358-1223.

Title: NASA acquisition process, reports required for contracts with an estimated value more than $500,000.

OMB Number: 2700-0089.

Type of review: Extension.

Need and Uses: Information collection is required to effectively manage and administer contracts that furnish goods and services in support of NASA's mission. The requirement for this information is set forth in the federal Acquisition Regulation, the NASA Federal Acquisition Regulation Supplement, and approved mission requirements.

Affected Public: Business or other for-profit, not-for-profit institutions, State, Local or Tribal Government.

Number of Respondents: 1,360.

Responses Per Respondent: 56.

Annual Responses: 76,160.

Hours Per Request: 8.

Annual Burden Hours: 609,280.

Frequency of Report: On occasion.

David B. Nelson,
Deputy Chief Information Officer, Office of the Administrator.

[FR Doc. 00-17845 Filed 7-13-00; 8:45 am]

BILLING CODE 7510-01-P